Proclamation 10548 of March 31, 2023

Education and Sharing Day, USA, 2023

By the President of the United States of America

A Proclamation

On Education and Sharing Day, we honor the memory of the Lubavitcher Rebbe, Rabbi Menachem Mendel Schneerson, who devoted his life to outreach and teaching—building bridges, challenging us to grow, and championing tolerance and learning.

Forced to flee Nazi-occupied Europe during World War II, the Rebbe witnessed some of history's darkest moments. But his faith and a lifetime of study had already taught him that education is both the antidote to hate and the cornerstone of humanity as a whole. From Brooklyn, he turned pain into purpose and built a global movement devoted to education, fellowship, and healing. His work established schools and community institutions dedicated to helping people reach their full potential. He offered guidance to Presidents and celebrated the rich diversity of our Nation, advocating throughout for compassion and learning. Education, he once said, should not just be about training individuals to earn a living, but it should also be about making a better living for society as a whole. Instructors should not just teach; they should teach justice. Students should not only learn but also build character.

My Administration has stood firm in defending the core values that the Rebbe championed and that we all share as Americans—the idea that everyone is created equal and must be treated with dignity and respect throughout their lives. We are committed to stamping out intolerance, so nothing stops children from learning and no one is denied the promise of America. In this country, hate will never prevail.

The Rebbe told us, “We must translate pain into action and tears into growth.” That is what education makes possible. Children are the kite strings that hold our national ambitions aloft—everything America will be tomorrow depends on how we deliver for our young people today. So let us remember his teachings. Let us prepare our children to be tolerant, curious, and moral, ensuring that they lift up others as they rise.

NOW, THEREFORE, I, JOSEPH R. BIDEN JR., President of the United States of America, by virtue of the authority vested in me by the Constitution and the laws of the United States, do hereby proclaim April 2, 2023, as Education and Sharing Day, USA. I call upon all government officials, educators, volunteers, and all the people of the United States to observe this day with appropriate programs, ceremonies, and activities.

IN WITNESS WHEREOF, I have hereunto set my hand this thirty-first day of March, in the year of our Lord two thousand twenty-three, and of the Independence of the United States of America the two hundred and forty-seventh.

[FR Doc. 2023-07317

Filed 4-4-23; 11:15 am]

Billing code 3395-F3-P